DEPARTMENT OF TRANSPORTATION

Federal Aviation Administration

14 CFR Part 39

[Docket No. FAA-2014-0740; Directorate Identifier 2014-CE-030-AD; Amendment 39-17978; AD 2014-20-05]

RIN 2120-AA64

Airworthiness Directives; Empresa Brasileira de Aeronautica S. A. (EMBRAER) Airplanes

AGENCY: Federal Aviation Administration (FAA), DOT.

ACTION: Final rule; request for comments.

SUMMARY: We are adopting a new airworthiness directive (AD) for Empresa Brasileira de Aeronautica S. A. (EMBRAER) Models EMB-110P1 and EMB-110P2 airplanes. This AD results from mandatory continuing airworthiness information (MCAI) issued by the aviation authority of another country to identify and correct an unsafe condition on an aviation product. The MCAI describes the unsafe condition as corrosion and cracking on the rudder trim tab actuator terminal. We are issuing this AD to require actions to address the unsafe condition on these products.

DATES: This AD is effective October 27, 2014.

The Director of the Federal Register approved the incorporation by reference of a certain publication listed in the AD as of October 27, 2014.

We must receive comments on this AD by November 21, 2014.

ADDRESSES: You may send comments by any of the following methods:

• Federal eRulemaking Portal: Go to http://www.regulations.gov. Follow the instructions for submitting comments.

• Fax: (202) 493-2251.

• Mail: U.S. Department of Transportation, Docket Operations,M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Embraer—S.A., EFTC—Service Bulletin Engineering, Avenida Brigadeiro Faria Lima, 2170, São José dos Campos—SP—12227-901, Brasil; phone: +55 12 3927 1000; fax: +55 12 3927-6600 (ext. 1624); email: fleet.reliability@embraer.com.br; internet: http://www.flyembraer.com. You may view this referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2014-0740; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Jim Rutherford, Aerospace Engineer, FAA, Small Airplane Directorate, 901 Locust, Room 301, Kansas City, Missouri 64106; telephone: (816) 329-4165; fax: (816) 329-4090; email: Jim.Rutherford@faa.gov.

SUPPLEMENTARY INFORMATION:

Discussion

The Agência Nacional de Aviação Civil (ANAC), which is the aviation authority for Brazil, has issued AD No.: 2014-09-01, dated September 4, 2014 (referred to after this as “the MCAI”), to correct an unsafe condition for Empresa Brasileira de Aeronautica S. A. (EMBRAER) Models EMB-110P1 and EMB-110P2 airplanes. The MCAI states:

This AD was prompted by a report of an in-service occurrence were an EMB-110 airplane performed a forced landing, due to a strong vibration felt by the pilots after the takeoff. The investigation determined that the cause of the vibration most likely resulted from a broken fork end on the rudder trim tab actuator that connects the trim tab to the trim tab actuator due to severe corrosion. We are issuing this AD to detect and correct corrosion and cracking on the rudder trim tab actuator terminal, which could cause the terminal to fail and result in loss of control of the airplane.

Since this condition may exist in other airplanes of the same type and affects flight safety, an immediate corrective action is required. Thus, sufficient reason exists to request compliance with this AD in the indicated time limit without prior notice.

This AD requires inspection of the rudder trim tab actuator components to detect discrepancies and corrosion on the rudder trim tab actuator components and, if any discrepancy exists, repair before further flight is required. You may examine the MCAI on the Internet at http://www.regulations.gov by searching for and locating Docket No. FAA-2014-0740.

Relevant Service Information

Empresa Brasileira de Aeronautica S. A. (EMBRAER) has issued EMBRAER Alert Service Bulletin SB No.: 110-27-A095, dated August 21, 2014. The actions described in this service information are intended to correct the unsafe condition identified in the MCAI.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

FAA's Determination of the Effective Date

An unsafe condition exists that requires the immediate adoption of this AD. The FAA has found that the risk to the flying public justifies waiving notice and comment prior to adoption of this rule because corrosion and cracking on the rudder trim tab actuator terminal could cause the terminal to fail and result in loss of control. Since this condition may exist in other airplanes of the same type and affects flight safety, an immediate corrective action is required. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2014-0740; Directorate Identifier 2014-CE-030-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 21 products of U.S. registry. We also estimate that it would take about 4.5 work-hours per product to comply with the basic requirements of this AD. The average labor rate is $85 per work-hour. Required parts would cost about $50 per product.

Based on these figures, we estimate the cost of the AD on U.S. operators to be $9,082.50, or $432.50 per product.

In addition, we estimate that any necessary follow-on actions would take about 3 work-hours and require parts costing $485, for a cost of $740 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2014-20-05 Empresa Brasileira de Aeronautica S. A. (EMBRAER): Amendment 39-17978; Docket No. FAA-2014-0740; Directorate Identifier 2014-CE-030-AD.

(a) Effective Date

This airworthiness directive (AD) becomes effective October 27, 2014.

(b) Affected ADs

None.

(c) Applicability

This AD applies to Empresa Brasileira de Aeronautica S. A. (EMBRAER) Models EMB-110P1 and EMB-110P2 airplanes, all serial numbers, certificated in any category.

(d) Subject

Air Transport Association of America (ATA) Code 27: Flight Controls.

(e) Reason

This AD was prompted by mandatory continuing airworthiness information (MCAI) issued by the aviation authority of another country to identify and correct an unsafe condition on an aviation product. The MCAI describes the unsafe condition as corrosion and cracking on the rudder trim tab actuator terminal. We are issuing this AD to detect and correct corrosion and cracking on the rudder trim tab actuator terminal, which could cause the terminal to fail and result in loss of control.

(f) Actions and Compliance

Unless already done, do the actions in paragraphs (f)(1) through (f)(2) of this AD:

(1) Within the next 10 hours time-in-service (TIS) after October 27, 2014 (the effective date of this AD) or 15 days after October 27, 2014 (the effective date of this AD), whichever occurs first, and repetitively thereafter at intervals not to exceed 60 months, do a detailed inspection to detect discrepancies and corrosion on the rudder trim tab actuator components. Follow the Accomplishment Instructions of Embraer Alert Service Bulletin (ASB) 110-27-A095, original issue, dated August 21, 2014.

(2) If any discrepancy is found during any inspection required in paragraph (f)(1) of this AD, before further flight, repair or replace the discrepancy, as necessary, following Accomplishment Instructions of Embraer Alert Service Bulletin (ASB) 110-27-A095, original issue, dated August 21, 2014.

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: Jim.Rutherford@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI Agência Nacional de Aviação Civil (ANAC) AD No.: 2014-09-01, dated September 4, 2014, for related information. You may examine the MCAI on the Internet at http://www.regulations.gov by searching for and locating Docket No. FAA-2014-0740.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) EMBRAER Alert Service Bulletin SB No.: 110-27-A095, dated August 21, 2014.

(ii) Reserved.

(3) For Empresa Brasileira de Aeronautica S. A. (EMBRAER) service information identified in this AD, contact Embraer-S.A., EFTC-Service Bulletin Engineering, Avenida Brigadeiro Faria Lima, 2170, São José dos Campos-SP-12227-901, Brasil; phone: +55 12 3927 1000; fax: +55 12 3927-6600 (ext. 1624); email: fleet.reliability@embraer.com.br; internet: http://www.flyembraer.com.

(4) You may view this service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri on September 24, 2014.
Monica L. Nemecek,
Acting Manager, Small Airplane Directorate, Aircraft Certification Service.

[FR Doc. 2014-23555 Filed 10-6-14; 8:45 am]

BILLING CODE 4910-13-P